DEPARTMENT OF COMMERCE

National Oceanic and Atmospheric Administration

50 CFR Part 660

[Docket No. 230718-0170]

RIN 0648-BM29

Fisheries Off West Coast States; West Coast Groundfish Electronic Monitoring Program; Service Provider Revisions

AGENCY: National Marine Fisheries Service (NMFS), National Oceanic and Atmospheric Administration (NOAA), Commerce.

ACTION: Proposed rule; request for comments.

SUMMARY: NMFS proposes regulatory amendments that would apply to Pacific Coast Groundfish Trawl Rationalization Program participants and electronic monitoring (EM) service providers that participate in the EM program. This rulemaking proposes to modify submission deadlines in Federal regulations specific to vessel feedback reports, summary reports, and logbook submissions by EM service providers. In addition, this rulemaking proposes to clarify regulations on how EM discard data should be estimated via the video review process. This action is necessary because the current regulatory deadlines for EM service providers may be too restrictive. This action is expected to provide more flexibility, while still meeting the data collection and data quality requirements of the EM program. This action would also update and revise obsolete regulations, correct terminology, correct web addresses, and remove obsolete administrative requirements in the Pacific groundfish fishery. Some aspects of this action remove duplicative requirements for mail notifications or mail-based record-keeping and reporting, which are also undertaken electronically. During the COVID-19 pandemic, many administrative notifications and reporting requirements were moved to electronic methods; this action would revise the regulations to be consistent with current practice. This action is intended to support the overarching goal to continually monitor the Groundfish Trawl Rationalization Program for compliance with existing regulations in an economical and flexible manner while meeting the goals and objectives of the Magnuson-Stevens Fishery Conservation and Management Act (Magnuson-Stevens Act; MSA), the Pacific Coast Groundfish Fishery Management Plan, and other applicable laws.

DATES: Comments must be received by Friday, August 25, 2023.

ADDRESSES: You may submit comments on this document, identified by NOAA-NMFS-2023-0062 by any of the following methods:

Electronic Submission: Submit all electronic public comments via the Federal e-Rulemaking Portal.

Go to https://www.regulations.gov and enter NOAA-NMFS-2023-0062 in the Search box, click the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic Access

This proposed rule is accessible at the Office of the Federal Register website at https://www.federalregister.gov. Background information and analytical documents (Analysis) are available at the NMFS West Coast Region website at: https://www.fisheries.noaa.gov/region/west-coast-groundfish.html and at the Pacific Fishery Management Council's website at https://www.pcouncil.org.

FOR FURTHER INFORMATION CONTACT: Abbie Moyer, phone: 206-305-9601, or email: abbie.moyer@noaa.gov.

SUPPLEMENTARY INFORMATION:

Authority for Action

NMFS and the Pacific Fishery Management Council (Council) manage the groundfish fisheries in the exclusive economic zone seaward of California, Oregon, and Washington under the Pacific Coast Groundfish Fishery Management Plan (FMP). The Council prepared the FMP under the authority of the MSA (16 U.S.C. 1801 et seq.). Regulations governing U.S. fisheries and implementing the FMP appear at 50 CFR part 660.

Background

Through Amendment 18 to the FMP (71 FR 66122, December 13, 2006), electronic monitoring was authorized in the FMP as an alternative to human data collection systems, where appropriate (see Section 6.4.1.1 of the FMP). On June 28, 2019 (84 FR 31146), at the recommendation of the Pacific Fishery Management Council (Council), NMFS published a final rule that authorized the use of EM in place of human observers to meet requirements for 100-percent at-sea monitoring for catcher vessels in the Pacific whiting fishery and fixed gear vessels in the shorebased Individual Fishing Quota (IFQ) fishery. EM video systems are used to record catch and discards by the vessel crew while at sea. Vessel operators are responsible for recording catch and discards in a logbook, which is then used to debit IFQ accounts and cooperative allocations. After an EM vessel completes a fishing trip, the vessel operator submits the video to their third-party EM service provider for analysis to be used to audit the vessel operator's self-reported discard logbooks. The June 2019 final rule also established requirements for vessel owners and operators and EM service providers participating in the EM program, and for first receivers receiving catch from EM trips. For more information see 84 FR 31146 (June 28, 2019).

At its June 2020 meeting, the Council recommended a delay in program implementation until January 1, 2022. The Council wanted to provide more time for industry and the Pacific States Marine Fisheries Commission (PSMFC) to develop a model for industry to fund PSMFC for review of video from their fishing trips. NMFS published a subsequent proposed rule (85 FR 53313, August 28, 2020) and final rule (85 FR 74614, November 23, 2020) that delayed implementation of the EM program until January 1, 2022 to provide additional time for industry and prospective service providers to prepare for implementation.

At its September 2021 meeting, the Council made a final recommendation that the EM program be further delayed until January 2024 at the earliest. NMFS published an interim final rule on October 6, 2021 (86 FR 55525) that changed effective dates in regulations in order to delay implementation of the EM program for the West Coast groundfish trawl rationalization program until at least January 1, 2024, and only after NMFS issues a public notice at least 90 calendar days before it will begin accepting applications for EM Authorizations for the first year of the program. To fulfill the requirements at 50 CFR 660.603(b) and 660.604(e), NMFS issued the 90-day notice on March 1, 2023, at https://www.fisheries.noaa.gov/bulletin/advance-notice-electronic-monitoring-regulatory-program. For full rationale see 86 FR 55525 (October 6, 2021).

During the delay in implementation of the EM program, NMFS published a final rule on October 3, 2022, (87 FR 59705) to allow the use of EM on trips with bottom-trawl and non-whiting midwater trawl gear. Consistent with the October 6, 2021 interim final rule (86 FR 55525) and the subsequently issued public notice identified above, the EM program for these trip types will be effective on January 1, 2024. In addition, the October 3, 2022 final rule made minor regulatory changes to existing EM program regulations implemented under the June 2019 final rule. The regulatory changes were intended to clarify and streamline EM program requirements, including the addition of submission deadlines for EM service providers to provide feedback reports to fishing vessels, and video review data summary reports as well as logbook data to NMFS. The full rationale for the Council's recommendation is detailed in the March 1, 2022 proposed rule for that action (87 FR 11382), and is not repeated here.

Under regulations at 50 CFR 660.603, EM service providers are responsible for providing various feedback reports to vessel operators and field services staff and data summaries to NMFS. These reports include logbook data, technical assistance, vessel operator feedback, EM summary data, and compliance reports. Generally, catch discards are initially debited from vessel accounts in the IFQ database using logbook data, and discards in logbooks are audited using EM data. IFQ vessel accounts are adjusted based on comparison/adjustment protocols that utilize the most accurate estimate.

Currently, the fishery continues under Exempted Fishing Permits (EFPs) with PSMFC conducting the video review process for the industry and following the video review protocols and submission deadlines outlined in the current EM manual (or other written and oral instructions provided by the EM program, and such that the EM program achieves its purpose as defined at § 660.600(b)). However, timely review and submission of the data has been challenging for PSMFC, and the delay in submissions has caused concern among the industry regarding the potential increase in costs associated with increasing the amount of personnel that may be needed to meet the video review workload and deadlines. Therefore, the Council examined the EM program and this issue in particular to reduce costs to the industry and ensure the overall program is effective and efficient for all participants.

Starting in February of 2022, the Council began scoping several issues brought forth by the industry via the Council's Ad Hoc Groundfish Electronic Monitoring Policy Advisory and Technical Advisory Committees (GEMPAC/TAC). The GEMPAC/TAC identified regulatory changes that may provide some cost savings and more efficiencies to the program. At the November 2022 Council meeting, the Council adopted a range of alternatives for consideration, and took final action at its March 2023 meeting. Consistent with MSA Section 303(c)(2), on July 5, 2023, the Council deemed the proposed regulations necessary and appropriate to implement the FMP provision authorizing the use of EM.

Regulatory Changes To Refine Existing EM Program

The regulatory changes described below were developed through Council discussion with NMFS, the GEMPAC/TAC, and members of industry. The Council's intent in developing these regulatory changes is to refine and clarify certain EM program requirements, reduce costs, and improve the effectiveness of the EM program overall in meeting its intended monitoring goals for the Trawl Rationalization Program. This would be achieved by increasing the allowable turnaround times and clarifying that different service providers may follow different video review protocols (as long as they are approved by NMFS and meet the EM program purpose as defined at § 660.600(b)) rather than a protocol that is standardized across service providers.

Reporting Deadlines for EM Service Providers

The following proposed regulatory changes would modify deadlines for various reports that EM service providers are required to submit under current regulations. These submission deadlines are for reports of logbook data, vessel operator feedback, and EM summary and data compliance reports. Submission of this information by EM service providers has been required in regulations as of June 2019; however, deadlines for the submission of these reports were not originally included. Under the final rule that was effective November 2, 2022 (87 FR 59705), NMFS established submission deadlines for these required EM service provider reports. This proposed rule, if adopted, would modify some of the established submission deadlines that have been identified as being too restrictive, in order to create possible cost savings and more efficiencies in the program.

A. Discard Logbooks

Under current regulations at 50 CFR 660.603(m)(5), EM service providers are required to submit the initial logbook data to NMFS within 2 days of receipt from vessel operators. This proposed regulatory change would require EM service providers to submit logbook data to NMFS within 7 days of receipt from vessel operators. EM participants and their EM service providers must submit logbooks to document fishing trips and ensure all fish that are legally discarded are accounted for under the IFQ program. The data is used initially to debit quota share accounts before it is corroborated with the EM review. This deadline would still help to ensure timely debiting of discards from vessel IFQ accounts.

The 2-day timeline for the data to be entered, verified as accurate, and then submitted to NMFS has been challenging to meet when several vessels submit logbooks at one time. According to PSMFC, however, logbook data submissions have rarely exceeded 7 days. Therefore, this proposed rule was recommended by the Council to provide more flexibility to EM service providers to be able to meet the deadline while still ensuring timely debiting of discards from vessel IFQ accounts. The frequency of vessel account updates is not expected to measurably change due to the additional 5 business days that EM service providers would be allowed to submit logbook data to NMFS. Actual logbook submission timeframes are expected to generally stay the same, with only occasional delays when a provider may happen to receive several logbooks at the same time.

B. Vessel Feedback Reports

Under current regulations at 50 CFR 660.603(m)(4), EM service providers are required to provide feedback reports to vessel operators and field services staff within 3 weeks of the date EM data is received from the vessel operator. Feedback is required on EM systems, crew responsibilities, and any other information that would improve the quality and effectiveness of data collection on the vessel. This proposed regulatory change would require EM service provider feedback to be submitted to vessels within 60 days of the date EM data is received from the vessel operator.

Timely feedback to vessels helps ensure EM data is being collected and that the data is reliable in meeting the EM program monitoring goals under the Trawl Rationalization Program. When the original deadline was developed, it was thought that 3 weeks was a reasonable timeframe to complete video review. However, as the program developed and more vessels joined the EFP program, video coming in for review increased. With the increase in video requiring review, over time vessel feedback turnaround time increased beyond the targeted 3-week turnaround time, up to 90 days in recent years. As the Analysis (see ADDRESSES) shows, reporting timelines have ranged from less than 21 days after receipt of the hard drive in 2015 through 2017, to 1 to 2 months and even greater during periods of higher fishing activity in 2019 to 2020. Despite these delays, there were no observable impacts to the EM program monitoring goals under the Trawl Rationalization Program.

Under this proposed rule, EM program participants could experience longer timelines between video submission and receipt of vessel feedback reports. Longer time frames may cause a delay in corrective actions when data collection issues arise and are not known by the vessel operator (i.e., sensor or video data gaps, camera blocked/clouded, poor camera position, etc.) resulting in loss of data. However, data gaps resulting from system malfunctions, non-compliance, or other issues are rare. As shown in the Analysis, in 2015-2017 (when turnaround times were 3 weeks), approximately 5, 3, and 4 percent of trips per year, respectively, had loss in video imagery. The majority of these were small interruptions of a few minutes caused by short power interruptions and generally did not disrupt monitoring of catch sorting. A total of four trips each year (less than 0.01 percent of all trips) were missing video imagery from a complete haul, and one, four, and seven trips each year, respectively, had no imagery at all.

Extending the timeline for submission is expected to provide more flexibility to handle times when hard drive submissions to EM service providers come in all at once, especially during increased fishing activity in the summer and early fall. Additionally, a 60-day turnaround time is expected to help EM service providers to provide more reliable reports because they will not be rushed into meeting challenging deadlines.

C. EM Summary Data and Compliance Reports

Current regulations at 50 CFR 660.603(m)(5) require EM service providers to submit EM summary data and compliance reports to NMFS following completion of video review within 3 weeks from the date the vessel operator submits EM data. EM summary data includes discard estimates, fishing activity information, and trip metadata. This proposed regulatory change would require these summary and compliance reports to be submitted to NMFS within 60 days from the date the vessel operator submits EM data for processing. EM summary data and compliance reports are used by NMFS to debit vessel accounts, monitor program and vessel performance, and enforce requirements of the EM program. Trip metadata is an essential record of when and where EM data were created by the vessel, submission time, date and location of review, and points of contact for reviewers. Trip metadata ensures fishing data can be accurately corroborated with logbook data and is necessary for a complete chain of custody and accountability between the vessel, EM service provider, and NMFS. Catch discards are initially debited from vessel accounts in the IFQ database using logbook data and audited using EM data. If there are large discrepancies between the logbook and EM summary data, then a longer reporting timeline could lead to vessel account owners experiencing unexpected debits or being unable to “close-out” an account for a fishing trip until the EM data are received.

As discussed above, when the original deadline was developed, it was thought that 3 weeks was a reasonable timeframe to complete video review. However, as the program developed and more vessels joined the EFP program, the amount of video coming in for review increased. As hard drive submissions increased each year, it became challenging to conduct 100 percent of the reviews within a 3-week timeframe under the current number of staff, with higher volumes of hard drives to review in late spring through fall. If the current requirements are to be met without increasing costs to handle peaks and pulses of hard drive submission, more time for EM service providers to process the EM data may be needed. Extending the timeline for submission is expected to provide more flexibility to handle times when hard drive submissions to EM service providers come in all at once. This could also allow EM service providers to provide more accurate estimated costs to potential EM participants via estimating video review workload (i.e., number of employees needed to provide timely review). Additionally, a 60-day turnaround time is expected to help EM service providers to provide more reliable reports because they will not be rushed into meeting challenging deadlines.

Part of the goal of the Trawl Rationalization Program under Amendment 20 to the FMP (75 FR 78344, December 15, 2010) is to achieve individual accountability of catch and bycatch. The proposed rule is not expected to interfere with this goal. Under the proposed rule, the EM program would continue to provide estimates of discards of IFQ species, which is necessary for maintaining accountability for total mortality of these species, as well as individual IFQ and cooperative allocations. Under the Trawl Rationalization Program, vessels are required to have IFQ or quota pounds (QPs) in an account to cover all IFQ landings and discards incurred while fishing under this program. The proposed rule would not change this requirement. Fishermen would still be accountable for covering QPs. NMFS assumes fishermen would continue to closely monitor their catch to prevent any surprise overages or deficits, which could shorten their fishing season or increase their costs if they had to buy additional quota from other quota holders. Additionally, overages and carryover provisions as outlined in Amendment 20 would still exist. So although an overage may occur as a result of delayed data, the vessel would still be responsible to cover that QP, creating an even greater incentive to closely monitor catch.

Revise EM Discard Data Review Language

The language in current regulations at 50 CFR 660.603(m)(1) reads: “The EM service provider must process vessels' EM data and logbooks according to a prescribed coverage level or sampling scheme, as specified by NMFS in consultation with the Council, and determine an estimate of discards for each trip using standardized estimation methods specified by NMFS. NMFS will maintain manuals for EM and logbook data processing protocols on its website.” This proposed regulatory change would remove the paragraph. The relevant information is already provided in 660.603(m) introductory paragraph and 50 CFR 660.603(m)(5). The intent of the structure of the EM Program is that the requirements to submit logbook data, EM summary reports, including discard estimates, fishing activity information, and meta data (e.g., image quality, reviewer name), and incident reports of compliance issues according to a NMFS-accepted EM Service Plan are required in the regulations. The submission must meet the program purpose, as defined in the regulations at 50 CFR 660.600(b). However, the details of how that data is processed, viewed, and evaluated are left to the EM Manual and EM Service Provider Guidelines or other written and oral instructions provided by the EM program.

The intent of the existing regulatory language was to guide each qualified provider to develop a method for discard estimation using general protocols outlined in the EM Manual that provides NMFS the desired data and for NMFS to determine if the data is collected consistently and appropriately by each EM service provider such that it meets the purpose of the EM program. However, the existing regulatory language could be interpreted that only one method must be used by all EM providers to “determine an estimate of discards for each trip.” In addition, the current regulatory language is incorrect since it specifies EM service providers need to determine an estimate of discards for each trip. Rather, the estimation method outlined in the EM Manual requires sampling percentages to be based on the hauls for each trip. Given the potential for confusion, and because the introductory paragraph of 50 CFR 660.603(m) and 50 CFR 660.603(m)(5) already identify submission requirements, we believe that removal, rather than revision, of 660.603(m)(1) is preferable.

Under the proposed rule, EM service providers would still be required to operate under a NMFS approved service plan (50 CFR 660.603(b)(1)(vii)) that shows how their methodology meets the requirements in the regulations. This proposed rule, if adopted, would also ensure performance standards provide the flexibility that allows for innovation and improvements that can potentially result in lower costs and greater benefits while still maintaining data quality and meeting the requirements in regulation and the overall purpose of the EM program.

The EM program was set up to maintain high quality information on discards of IFQ species for management decisions, while minimizing the costs of data collection requirements, consistent with National Standards 2 and 7 of the MSA. While EM cannot collect all the information collected by human observers, NMFS and the Council made every effort to ensure consistent protocols between the human observer and EM programs, to ensure comparable quality, and allow their integration for management. To ensure that the EM Program continues to provide NMFS with the best scientific information available for management, NMFS and the Council established strict performance standards in the regulations for EM units, vessels, and providers. This proposed rule, if issued, would not change those performance standards established via rulemakings.

Administrative Revisions

This proposed rule, if adopted, would also update and revise obsolete regulations, correct terminology, correct web addresses, and remove obsolete administrative requirements for the groundfish fishery. Some aspects of this action remove duplicative requirements for mail notifications or mail-based record-keeping and reporting, which are also undertaken electronically. During the COVID-19 pandemic, many administrative notifications and reporting requirements were moved to electronic methods; this action would revise the regulations to be consistent with current practice.

This proposed rule, if issued, would also remove the requirement at § 660.140(f)(3) for NMFS to issue an initial agency determination (IAD) for both approvals and disapprovals of applications. In all other application procedures described in regulation, IADs are only issued in the case of a disapproval. IADs are unnecessary for approvals since the confirmation of the approval is the issuance of the permit that was applied for. Additionally, IADs can be appealed. There is no reason to appeal an IAD approving an application.

This proposed rule, if adopted, would remove the requirement for cease-fishing reports for both the Mothership (MS) and Catcher/Processor (C/P) cooperatives. Amendment 21-4 to the FMP (42 FR 68799, December 17, 2019) completed the removal of the allocations of non-whiting groundfish species made as part of Amendment 21 to the FMP (75 FR 60867, October 1, 2010) and instead created set-asides in the at-sea sectors (the MS and C/P cooperatives). With the removal of allocations for non-whiting groundfish to the at-sea sectors, procedures for reapportionment of non-whiting groundfish species allocations between the MS and C/P cooperatives were removed. Erroneously, a record-keeping and reporting requirement only necessary for this reapportionment was not removed.

This proposed rule, if adopted, would modify the current requirements under the Trawl Rationalization Program for NMFS to mail out annual reminders to fishery participants to renew their quota share permits, their vessel accounts, and their first receiver site licenses. During the COVID-19 global pandemic, we transitioned these reminders to an electronic format. This proposed rule would revise the regulations to be consistent with current practice.

Finally, this proposed rule, if adopted, would make a number of minor clarifying corrections. In many places in the regulations governing the Pacific Coast groundfish fisheries, the term `cooperative' is abbreviated to `coop', rather than `co-op'. This proposed rule would correct the abbreviation throughout this Part. This proposed rule would also correct obsolete web addresses and outdated references to the NMFS `Northwest Region', which, as of 2013, is now the West Coast Region.

Classification

Pursuant to section 304(b)(1)(A) and 305(d) of the Magnuson-Stevens Act, the NMFS Assistant Administrator has determined that this proposed rule is consistent with the Pacific Coast Groundfish Fishery Management Plan, other provisions of the Magnuson-Stevens Act, and other applicable law, subject to further consideration after public comment. Please see ADDRESSES for more information on the ways to submit comments on this proposed rule.

This proposed rule has been determined to be not significant for purposes of Executive Order 12866.

Under the Regulatory Flexibility Act (5 U.S.C. 601 et seq.), the Chief Counsel for Regulation of the Department of Commerce certified to the Chief Counsel for Advocacy of the Small Business Administration that this proposed rule, if adopted, would not have a significant economic impact on a substantial number of small entities.

This proposed rule is expected to provide more flexibility and minor cost savings, while still meeting the data collection and data quality requirements of the EM program. This proposed rule would mainly impact EM service providers participating in the EM program when full implementation of the EM program begins on January 1, 2024. Based on past EM service provider applications submitted to NMFS, NMFS estimates that one to seven EM service provider companies may participate in the EM program. Assuming EM service provider cost savings trickle down to fishery participants, this proposed rule also has the potential to impact commercial harvesting entities engaged in the groundfish limited entry trawl fishery. Vessels deploying EM are likely to be a subset of the overall trawl fleet, as some vessels would likely choose to continue to use observers. However, as all trawl vessels could potentially use EM in the future, NMFS analyzed impacts to the entire trawl fleet.

The total number of vessels that may be eligible to use EM is 175, the total number of limited entry trawl permits in 2022. Of the 165 limited entry trawl endorsed permits (excluding those 10 with a catcher/processor (CP) endorsement), 110 permit owners holding 129 permits classified themselves as small entities. The average small entity owns 1.17 permits with 15 entities owning more than 1 permit. For those with CP endorsements, all 3 permit owners (owning the collective 10 C/P endorsed permits) self-reported as large entities. One entity owns five permits, one owns three, and the last owns two. The economic effects would depend on how widely EM is adopted by vessel owners participating in the Trawl Rationalization Program.

NMFS considers two criteria in determining the significance of adverse regulatory effects, namely, disproportionality and profitability. Disproportionality compares the effect of the regulatory action between small and large entities. Taking into consideration disproportionality and profitability, this action provides flexibility that may enable all participating EM service providers to reduce costs. Additionally, vessel operating costs may be reduced to the degree that (1) there is a reduction in video reviewer costs, and (2) those cost reductions are passed along to vessels, which would apply to all vessels participating in the EM program, regardless of size. Economic effects are expected to be minimal. Therefore, we do not expect significant or disproportionate adverse economic effects from this action.

As a result, an initial regulatory flexibility analysis is not required and none has been prepared.

This proposed rule revises existing requirements for the collection of information approved under the Paperwork Reduction Act of 1995 (44 U.S.C. 3501 et seq.). The proposed rule would extend EM service provider submission deadlines for: (1) Vessel operator feedback: 60 day from the date of receipt of EM data for processing from the vessel operator; (2) EM summary and data compliance reports: 60 days from the date of receipt of EM data for processing from the vessel operator; and (3) Logbook data: submit logbook data to NMFS within 7 days of receipt from vessel operators.

Extending the submission deadlines is not expected to increase the public reporting burden for the information collection. The current collection of information requirements would continue to apply under the existing OMB Control Number 0648-0785: West Coast Region Groundfish Trawl Fishery Electronic Monitoring Program.

List of Subjects in 50 CFR Part 660

Fisheries, Fishing, and Indian Fisheries.

Dated: July 18, 2023.
Kimberly Damon-Randall,
Acting Deputy Assistant Administrator for Regulatory Programs, National Marine Fisheries Service.

For the reasons set out in the preamble, NMFS proposes to amend 50 CFR part 660 as follows:

PART 660—FISHERIES OFF WEST COAST STATES

1. The authority citation for part 660 continues to read as follows:

Authority: 16 U.S.C. 1801 et seq.; 16 U.S.C. 773 et seq.; and 16 U.S.C. 7001 et seq.

2. Amend part 660 by removing the word “coop” and adding in its place the word “co-op” wherever it appears.

3. Amend part 660 by removing the word “Coop” and adding in its place the word “Co-op” wherever it appears.

4. Amend part 660 by removing all instances of “https://www.nwr.noaa.gov” and “https://www.nwr.noaa.gov/Groundfish-Halibut/Groundfish-Permits/index.cfm” and adding in their place “https://www.fisheries.noaa.gov/region/west-coast” wherever they appear.

5. Amend part 660 by removing the phrase “NMFS NWR” and adding in its place the phrase “NMFS WCR” wherever it appears.

6. Amend part 660 by removing the phrase “NMFS Northwest Region” and adding in its place the phrase “NMFS West Coast Region” wherever it appears.

7. Amend § 660.18 by revising paragraph (d)(1) to read as follows:

§ 660.18 Observer and catch monitor provider permits and endorsements.

* * * * *

(d) * * *

(1) Initial administrative determination. For all complete applications, NMFS will issue an IAD if it disapproves the application. An approved application will result in issuance of the permit. If disapproved, the IAD will provide the reasons for this determination. If the applicant does not appeal the IAD within 30 calendar days, the IAD becomes the final decision of the Regional Administrator acting on behalf of the Secretary of Commerce.

* * * * *

8. Amend § 660.25 by revising paragraph (b)(3)(iv)(C)(2) and (b)(4)(ix) to read as follows:

§ 660.25 Permits.

* * * * *

(b) * * *

(3) * * *

(iv) * * *

(C) * * *

(2) Application and issuance process for an ownership limitation exemption. The SFD will make the qualifying criteria and application instructions available online at https://www.fisheries.noaa.gov/region/west-coast. A vessel owner who believes that they may qualify for the ownership limitation exemption must submit evidence with their application showing how their vessel has met the qualifying criteria described at paragraph (b)(3)(iv)(C)(1) of this section. The vessel owner must also submit a Sablefish Permit Ownership Limitation Exemption Identification of Ownership Interest form that includes disclosure of percentage of ownership in the vessel and disclosure of individual shareholders in any entity. Paragraph (i) of this section sets out the relevant evidentiary standards and burden of proof. Applications may be submitted at any time to NMFS at: NMFS West Coast Region, Sustainable Fisheries Division, ATTN: Fisheries Permit Office—Sablefish Ownership Limitation Exemption, 7600 Sand Point Way NE, Seattle, WA 98115. After receipt of a complete application, the SFD will issue an IAD in writing to the applicant determining whether the applicant qualifies for the exemption. If an applicant chooses to file an appeal of the IAD, the applicant must follow the appeals process outlined at paragraph (g) of this section and, for the timing of the appeals, at paragraph (g)(4)(ii) of this section.

* * * * *

(4) * * *

(ix) Application forms available. Application forms for a change in vessel registration, permit owner, or vessel owner are available at: NMFS West Coast Region, Sustainable Fisheries Division, ATTN: Fisheries Permit Office, 7600 Sand Point Way NE, Seattle, WA 98115; or https://www.fisheries.noaa.gov/region/west-coast. Contents of the application, and required supporting documentation, are also specified in the application form. Only complete applications will be processed.

* * * * *

9. Amend § 660.60 by revising paragraph (d)(2) to read as follows:

§ 660.60 Specifications and management measures.

* * * * *

(d) * * *

(2) Automatic actions are effective when actual notice is sent by NMFS identifying the effective time and date. Actual notice to fishers and processors will be by email, internet (https://www.fisheries.noaa.gov/region/west-coast), phone, letter, or press release. Allocation reapportionments will be followed by publication in the Federal Register, in which public comment will be sought for a reasonable period of time thereafter.

* * * * *

10. Amend § 660.113 by removing and reserving paragraphs (c)(4) and (d)(4).

11. Amend § 660.140 by revising paragraphs (d)(2)(iii)(A), (d)(3)(i)(B), (e)(2)(ii), (e)(3)(i)(B), (f)(3) introductory text, (f)(4), and (f)(6)(i) to read as follows:

§ 660.140 Shorebased IFQ Program.

* * * * *

(d) * * *

(2) * * *

(iii) * * *

(A) Initial administrative determination. For all complete applications, NMFS will issue an IAD if it disapproves the application. If approved, the QS permit serves as the IAD. If disapproved, the IAD will provide the reasons for this determination. If the applicant does not appeal the IAD within 30 calendar days, the IAD becomes the final decision of the Regional Administrator acting on behalf of the Secretary of Commerce.

* * * * *

(3) * * *

(i) * * *

(B) Notification to renew QS permits will be sent by SFD by September 15 each year to the QS permit owner's most recent email address in the SFD record. The QS permit owner shall provide SFD with notice of any email address change within 15 days of the change.

* * * * *

(e) * * *

(2) * * *

(ii) Registration. A vessel account must be registered with the NMFS SFD Permits Office. A vessel account may be established at any time during the year. An eligible vessel owner must submit a request in writing to NMFS to establish a vessel account. The request must include the vessel name; USCG vessel registration number (as given on USCG Form 1270) or state registration number, if no USCG documentation; all vessel owner names (as given on USCG Form 1270, or on state registration, as applicable); and business contact information, including: Address, phone number, fax number, and email. Requests for a vessel account must also include the following information: A complete economic data collection form as required under § 660.113(b), (c) and (d), and a complete Trawl Identification of Ownership Interest Form as required under paragraph (e)(4)(ii) of this section. The request for a vessel account will be considered incomplete until the required information is submitted. Any change specified at paragraph (e)(3)(ii) of this section, including a change in the legal name of the vessel owner(s), will require the new owner to register with NMFS for a vessel account. A participant must have access to a computer with internet access and must set up online access to their vessel account to participate. NMFS will provide vessel account owners instructions to set up online access to their vessel account. NMFS will use the vessel account to send messages to vessel owners in the Shorebased IFQ Program; it is important for vessel owners to monitor their online vessel account and all associated messages.

* * * * *

(3) * * *

(i) * * *

(B) Notification to renew vessel accounts will be issued by SFD by September 15 each year to the vessel account owner's most recent email address in the SFD record. The vessel account owner shall provide SFD with notice of any email address change within 15 days of the change.

* * * * *

(f) * * *

(3) Application process. Persons interested in being licensed as an IFQ first receiver for a specific physical location must submit a complete application for a first receiver site license through the web form submission available at https://www.noaa.gov/fisheries. First receiver site license holders may request a paper application by contacting SFD. NMFS will only consider complete applications for approval. A complete application includes:

* * * * *

(4) Initial administrative determination. For all complete applications, NMFS will issue an IAD if the application is disapproved. The IAD will provide the reasons for this determination. NMFS will not reissue a first receiver site license until the required cost recovery program fees, as specified at § 660.115, have been paid. The IAD, appeals, and final decision process for the cost recovery program is specified at § 660.115(d)(3)(ii).

* * * * *

(6) * * *

(i) First receiver site license applications will be accessible through an online application on or about February 1 each year.

* * * * *

12. Amend § 660.150 by revising paragraph (d)(2) to read as follows:

§ 660.150 Mothership (MS) Co-op Program.

* * * * *

(d) * * *

(2) Initial administrative determination. For all complete applications, NMFS will issue an IAD if the application is disapproved. An approved application will result in issuance of the permit. If disapproved, the IAD will provide the reasons for this determination. The IAD for a MS co-op permit follows the same requirement as specified for limited entry permits at § 660.25(g)(4)(ii); if the applicant does not appeal the IAD within the 30 calendar days, the IAD becomes the final decision of the Regional Administrator acting on behalf of the Secretary of Commerce.

* * * * *

13. Amend § 660.160 by revising paragraph (d)(2) to read as follows:

§ 660.160 Catcher/processor (C/P) Coop Program.

* * * * *

(d) * * *

(2) Initial administrative determination. For all complete applications, NMFS will issue an IAD if the application is disapproved. An approved application will result in issuance of the permit. If disapproved, the IAD will provide the reasons for this determination. The IAD for a C/P co-op permit follows the same requirement as specified for limited entry permits at § 660.25(g)(4)(ii), if the applicant does not appeal the IAD within the 30 calendar days, the IAD becomes the final decision of the Regional Administrator acting on behalf of the Secretary of Commerce.

14. Amend § 660.603 by removing and reserving paragraph (m)(1), and revising paragraphs (m)(4) introductory text, and (5) to read as follows:

§ 660.603 Electronic monitoring provider permits and responsibilities.

* * * * *

(m) * * *

(1) [Reserved]

* * * * *

(4) The EM service provider must communicate with vessel operators and NMFS to coordinate data service needs, resolve specific program issues, and provide feedback on program operations. No later than 60 days from the date of receipt of EM data for processing from the vessel operator, the EM service provider must provide feedback to vessel representatives, field services staff, and NMFS regarding:

* * * * *

(5) Submission of data and reports. On behalf of vessels with which it has a contract (see § 660.604(k)), the EM service provider must submit to NMFS logbook data, EM summary reports, including discard estimates, fishing activity information, and meta data (e.g., image quality, reviewer name), and incident reports of compliance issues according to a NMFS-accepted EM Service Plan, which is required under paragraph (b)(1)(vii) of this section, and as described in the EM Program Manual or other written and oral instructions provided by the EM program, such that the EM program achieves its purpose as defined at § 660.600(b). Logbook data must be submitted to NMFS within 7 business days of receipt from the vessel operator. EM summary reports must be submitted within 60 days of the date the EM data was received by the EM service provider from the vessel operator. If NMFS determines that the information does not meet these standards, NMFS may require the EM service provider to correct and resubmit the datasets and reports.

* * * * *

[FR Doc. 2023-15574 Filed 7-25-23; 8:45 am]

BILLING CODE 3510-22-P